INTERNATIONAL TRADE COMMISSION

[Investigation No. TA-201-77]

Fresh, Chilled, or Frozen Blueberries; Change in Starting Time of January 12, 2021 Hearing to 9:00 a.m. From 9:30 a.m.

AGENCY: United States International Trade Commission.

ACTION: Notice.

FOR FURTHER INFORMATION CONTACT: Jordan Harriman (202-205-2610), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

SUPPLEMENTARY INFORMATION: On October 9, 2020, the Commission published a notice in the Federal Register concerning the institution and scheduling of Investigation No. TA-201-77 pursuant to section 202 of the Trade Act of 1974 (“the Act”) to determine whether fresh, chilled, or frozen blueberries are being imported into the United States in such increased quantities as to be a substantial cause of serious injury, or the threat thereof, to the domestic industry producing an article like or directly competitive with the imported articles (85 FR 64162, as amended by 85 FR 66360 on October 19, 2020). This notice updates the time at which the hearing on injury will begin. This hearing, originally scheduled to begin at 9:30 a.m. EST on January 12, 2021, now will begin at 9:00 a.m. EST on January 12, 2021.

Authority: This investigation is being conducted under authority of Section 202 of the Act; this notice is published pursuant to section 202(b)(3) of the Act.

By order of the Commission.
Issued: January 8, 2021.
Lisa Barton,
Secretary to the Commission.

[FR Doc. 2021-00623 Filed 1-13-21; 8:45 am]

BILLING CODE 7020-02-P